FEDERAL MARITIME COMMISSION

Ocean Transportation Intermediary License Revocation

The Federal Maritime Commission hereby gives notice that the following Ocean Transportation Intermediary licenses have been revoked pursuant to section 19 of the Shipping Act of 1984 (46 U.S.C. Chapter 409) and the regulations of the Commission pertaining to the licensing of Ocean Transportation Intermediaries, 46 CFR part 515, effective on the corresponding date shown below:

License Number: 021331F.

Name: Deseret Forwarding International, Inc.

Address: 1760 Airway, Suite 103, El Paso, TX 79925.

Date Revoked: February 25, 2010.

Reason: Failed to maintain a Valid Bond.

License Number: 004553N.

Name: Marianas Steamship Agencies, Inc. DBA MSA Logistics.

Address: Commercial Port Annex, 2nd Floor, 1010 Cabras Highway, Piti, Guam 96915.

Date Revoked: March 4, 2010.

Reason: Surrendered license voluntarily.

Sandra L. Kusumoto,
Director, Bureau of Certification and Licensing.

[FR Doc. 2010-7888 Filed 4-6-10; 8:45 am]

BILLING CODE 6730-01-P